DEPARTMENT OF COMMERCE

International Trade Administration

[A-533-883, A-588-878, A-549-837, C-533-884, C-570-081]

Glycine From India, Japan, Thailand, and the People's Republic of China: Notice of Court Decision Not in Harmony With Final Scope Ruling and Notice of Amended Final Scope Ruling Pursuant to Court Decision

AGENCY: Enforcement and Compliance, International Trade Administration, Department of Commerce.

SUMMARY: On August 20, 2025, the U.S. Court of International Trade (CIT) issued its final judgment in Deer Park Glycine, LLC v. United States, Court No. 23-00238, sustaining the U.S. Department of Commerce (Commerce)'s remand redetermination pertaining to the final scope ruling for the antidumping duty orders on glycine from India, Japan, and Thailand, and the countervailing duty orders on glycine from India and the People's Republic of China. In the underlying ruling, Commerce determined that calcium glycinate was not covered by the scope of the orders. Commerce is notifying the public that the CIT's final judgment is not in harmony with Commerce's final scope ruling, and notifying the public of Commerce's final scope ruling finding that calcium glycinate is subject to the orders.

DATES: Applicable August 30, 2025.

FOR FURTHER INFORMATION CONTACT: Brian Davis, AD/CVD Operations, Office VI, Enforcement and Compliance, International Trade Administration, U.S. Department of Commerce, 1401 Constitution Avenue NW, Washington, DC 20230; telephone: (202) 482-7924.

SUPPLEMENTARY INFORMATION:

Background

On October 11, 2023, Commerce issued its Final Scope Ruling finding that calcium glycinate is not subject to the scope of the Orders.¹ Deer Park LLC appealed Commerce's Final Scope Ruling. On April 10, 2025, the CIT remanded the Final Scope Ruling to Commerce, holding that Commerce's determination was unreasonable and remanding for Commerce to: (1) analyze whether calcium glycinate is a form of crude or technical glycine, which would bring it within the scope of the Orders,² and (2) specifically consider information in the scope application and the ITC Report that detracted from Commerce's interpretation of the scope language and its ultimate determination that calcium glycinate is not subject to the Orders.³

¹ See Memorandum, “Scope Ruling on Calcium Glycinate,” dated October 11, 2023 (Final Scope Ruling); see also Glycine from India and Japan: Amended Final Affirmative Antidumping Duty Determination and Antidumping Duty Order, 84 FR 29170 (June 21, 2019); Glycine from Thailand: Antidumping Duty Order, 84 FR 55912 (October 18, 2019); and Glycine from India and the People's Republic of China: Countervailing Duty Order, 84 FR 29173 (June 1, 2019) (collectively, the Orders).

² Id.

³ See Deer Park Glycine, LLC v. United States, Slip Op. 25-38 (April 10, 2025) (Deer Park Glycine, LLC v. United States).

In its final remand redetermination, issued on July 9, 2025, Commerce found calcium glycinate to be covered by the scope of the Orders as a form of crude or technical glycine.⁴ On August 20, 2025, the CIT sustained Commerce's final redetermination.⁵

⁴ See Final Results of Redetermination Pursuant to Court Remand, Deer Park Glycine, LLC v. United States, Court No. 23-00238, Slip Op. 25-38, dated July 9, 2025 (Final Remand)

⁵ See Deer Park Glycine, LLC v. United States.

Timken Notice

In its decision in Timken,⁶ as clarified by Diamond Sawblades,⁷ the Court of Appeals for the Federal Circuit held that, pursuant to section 516A(c) and (e) of the Tariff Act of 1930, as amended (the Act), Commerce must publish a notice of court decision that is not “in harmony” with a Commerce determination and must suspend liquidation of entries pending a “conclusive” court decision. The CIT's August 20, 2025, judgment constitutes a final decision of the CIT that is not in harmony with Commerce's Final Scope Ruling. Thus, this notice is published in fulfillment of the publication requirements of Timken.

⁶ See Timken Co. v. United States, 893 F.2d 337 (Fed. Cir. 1990) (Timken).

⁷ See Diamond Sawblades Manufacturers Coalition v. United States, 626 F.3d 1374 (Fed. Cir. 2010) (Diamond Sawblades).

Amended Final Scope Ruling

In accordance with the CIT's August 20, 2025, final judgment, Commerce is providing notice of its Final Scope Ruling, finding that calcium glycinate is subject to the scope of the Orders.

Liquidation of Suspended Entries

Commerce will instruct U.S. Customs and Border Protection (CBP) to suspend, and continue to suspend liquidation of, entries of calcium glycinate and to require cash deposits at the appropriate rates. In the event that the CIT's ruling is not appealed or is upheld on appeal, Commerce will instruct CBP to liquidate entries of calcium glycinate appropriately.

Notification to Interested Parties

This notice is issued and published in accordance with sections 516A(c) and (e) and 777(i)(1) of the Act.

Dated: September 5, 2025.
Christopher Abbott,
Deputy Assistant Secretary for Policy and Negotiations, performing the non-exclusive functions and duties of the Assistant Secretary for Enforcement and Compliance.

[FR Doc. 2025-17461 Filed 9-10-25; 8:45 am]

BILLING CODE 3510-DS-P